DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the name of a person whose property and interests in property has been unblocked and removed from the list of Specially Designated Nationals and Blocked Persons. Additionally, OFAC is publishing an update to the identifying information of a person currently included in the list of Specially Designated Nationals and Blocked Persons.

DATES: See Supplementary Information section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On January 4, 2018, OFAC determined that the property and interests in property of the following person are unblocked and removed from the SDN List under the relevant sanctions authority listed below.

Individual

1. TOUZARD ROMO, Lucia, Ave. Samuel Lewis y Calle 54, Urb. Obarrio Torre Generali, piso 11, Apartado 0831-02-513, Panama, Panama; DOB 24 Jan 1971; POB Panama; citizen Panama; Passport 0159068 (Panama) (individual) [SDNTK] (Linked To: WAKED MONEY LAUNDERING ORGANIZATION).

Additionally, on January 4, 2018, OFAC updated the SDN List for the following person, whose property and interests in property continue to be blocked under the relevant sanctions authority listed below.

Individual

1. AGUINO ARBOLEDA, Onofre Junior (Latin: AGUIÑO ARBOLEDA, Onofre Junior) (a.k.a. “DIOS Y CIEGO”), Colombia; DOB 16 Sep 1989; POB Tumaco, Narino, Colombia; Gender Male; Cedula No. 1087132209 (Colombia) (individual) [SDNTK].

Dated: January 4, 2018.
Gregory T. Gatjanis,
Associate Director, Office of Global Targeting, Office of Foreign Assets Control.

[FR Doc. 2018-01225 Filed 1-23-18; 8:45 am]

BILLING CODE 4810-AL-P